TENNESSEE VALLEY AUTHORITY

Sunshine Act Meeting

Agency Holding the Meeting: Tennessee Valley Authority (Meeting No. 09-06).

Time and Date: 9:30 a.m. (CST), November 19, 2009, Carroll Knicely Conference Center, 2355 Nashville Road, Bowling Green, Kentucky.

Status: Open.

Agenda

Old Business

Approval of minutes of August 20, 2009, Board Meeting.

New Business

1. Chairman's Report.

2. President's Report.

3. Report of the Finance, Strategy, Rates, and Administration Committee:

A. Tax-equivalent payments for Fiscal Year 2009 and estimated payments for Fiscal Year 2010.

B. Management compensation.

4. Report of the Operations, Environment, and Safety Committee:

A. Nuclear fuel enrichment services.

B. Turbine generator alliance fossil and nuclear.

C. Fleet-wide maintenance and modification contracts.

D. Fleet-wide managed task engineering contracts.

5. Report of the Audit, Governance, and Ethics Committee:

A. Consideration of PURPA standards.

B. Selection of TVA's external auditor for Fiscal Year 2010.

6. Report of the Community Relations and Energy Efficiency Committee:

A. Guntersville Airport easement.

B. Watts Bar Reservoir Land Management Plan.

C. Mountain Reservoirs Land Management Plan.

D. Energy Efficiency and Demand Response update.

For more information: Please call TVA Media Relations at (865) 632-6000, Knoxville, Tennessee. People who plan to attend the meeting and have special needs should call (865) 632-6000. Anyone who wishes to comment on any of the agenda in writing may send their comments to: TVA Board of Directors, Board Agenda Comments, 400 West Summit Hill Drive, Knoxville, Tennessee 37902.

Dated: November 12, 2009.
Maureen H. Dunn,
General Counsel and Secretary.

[FR Doc. E9-27640 Filed 11-13-09; 11:15 am]

BILLING CODE 8120-08-P